DEPARTMENT OF TRANSPORTATION

Surface Transportation Board

[STB Finance Docket No. 35152]

Arkansas Midland Railroad Company, Inc.—Operation Exemption—in Jacksonville, AR

Arkansas Midland Railroad Company, Inc. (AKMD),¹ a Class III rail carrier, has filed a verified notice of exemption under 49 CFR 1150.41 to operate approximately 2.6 miles of rail line in Jacksonville, AR (the Jacksonville Industrial Spur), extending from the wye track connections with Union Pacific Railroad Company's (UP) Little Rock-Poplar Bluff main line near South James Street to General Samuels Road near the south side of the Little Rock Air Force Base. The Jacksonville Industrial Spur is owned by the City of Jacksonville (City) and is currently operated by UP as exempt spur trackage. AKMD and the City have entered into a lease agreement providing for AKMD's lease of, and provision of rail service on, the line. UP's exempt switching operations will terminate upon AKMD's initiation of service.

¹ AKMD is a wholly owned subsidiary of Pinsly Railroad Company, Inc., a non-carrier holding company which also controls four other Class III rail carriers in Florida and Massachusetts. See Pinsly Railroad Company—Continuance in Control Exemption—Arkansas Midland Railroad Company, Inc., Finance Docket No. 32001 (ICC served Mar. 6, 1992).

AKMD certifies that its projected revenues as a result of the transaction will not result in the creation of a Class II or Class I rail carrier. Because the projected annual revenues of the line, together with AKMD's projected annual revenue, will exceed $5 million, AKMD certified on July 3, 2008, that on that date it served the national offices of the labor unions with employees on the line with a copy of a notice of its intent to undertake this transaction, and posted such notice on July 3, 2008, at the workplace of the employees on the affected line.

Pursuant to the Consolidated Appropriations Act, 2008, Public Law No. 110-161, § 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

The transaction is expected to be consummated on October 1, 2008.

If the verified notice contains false or misleading information, the exemption is void ab initio. Petitions to revoke the exemption under 49 U.S.C. 10502(d) may be filed at any time. The filing of a petition to revoke will not automatically stay the transaction. Petitions for stay must be filed no later than September 19, 2008.

An original and 10 copies of all pleadings, referring to STB Finance Docket No. 35152, must be filed with the Surface Transportation Board, 395 E Street, SW., Washington, DC 20423-0001. In addition, a copy of each pleading must be served on Thomas J. Litwiler, 29 North Wacker Drive, Suite 920, Chicago, IL 60606-2832.

Board decisions and notices are available on our Web site at http://www.stb.dot.gov.

Decided: September 9, 2008.
By the Board, David M. Konschnik, Director, Office of Proceedings.
Anne K. Quinlan,
Acting Secretary.

[FR Doc. E8-21393 Filed 9-12-08; 8:45 am]

BILLING CODE 4915-01-P